DEPARTMENT OF TRANSPORTATION

Federal Highway Administration

[Docket No. FHWA-2024-0056]

Notice of Intent To Prepare an Environmental Impact Statement for a Proposed Highway Project, Centre County, PA

AGENCY: Federal Highway Administration (FHWA), Department of Transportation (DOT).

ACTION: Notice of intent to prepare an environmental impact statement.

SUMMARY: The FHWA, in coordination with the Pennsylvania Department of Transportation (PennDOT) is issuing the Notice of Intent (NOI) to solicit comments and advise the public, agencies, and stakeholders that an Environmental Impact Statement (EIS) will be prepared to study potential improvements to US 322 also known as the State College Area Connector Project from Potters Mills, PA to Boalsburg, PA. The project identification number is 112784. This NOI should be reviewed together with the NOI Additional Project Information document, which contains important details about the proposed project and complements the information in this NOI.

DATES: Comments on the NOI or the NOI Additional Project Information document are to be received by FHWA through the methods below by August 23, 2024.

ADDRESSES: This NOI and the NOI Additional Project Information are also available in the docket referenced above at www.regulations.gov and on the project website located at www.penndot.pa.gov/SCAC. The NOI Additional Project Information document will be mailed upon request. Interested parties are invited to submit comments by any of the following methods:

Website: For access to the documents, go to the Federal eRulemaking Portal located at www.regulations.gov or the project website located at www.penndot.pa.gov/SCAC. Follow the online instructions for submitting comments.

Mailing address or for hand delivery or courier: Docket Management Facility, U.S. Department of Transportation, 1200 New Jersey Avenue SE, West Building Ground Floor, Room W12-140, Washington, DC 20590.

All submissions should include the agency name, the docket number that appears in the heading of this notice, and the project identification number. All comments received will be posted without change to www.regulations.gov, including any personal information provided. A summary of the comments will be included in the Draft EIS.

FOR FURTHER INFORMATION CONTACT: FHWA: Julia Moore, Senior Environmental Specialist, Federal Highway Administration, Pennsylvania Division Office, 30 North Third Street, Suite 700, Harrisburg, PA 17101; Julia.Moore@dot.gov; 717-221-4585. PennDOT: Eric Murnyack, PE, Project Manager, 70 PennDOT Drive, Clearfield, PA 16830; email emurnyack@pa.gov; 814-765-0435.

SUPPLEMENTARY INFORMATION: It is important to note that the FHWA and PennDOT are committed to public involvement in this project. The FHWA, as Federal lead agency, and PennDOT, as project sponsor, are preparing an EIS to study potential improvements to US 322 also known as the State College Area Connector Project from Potters Mills, PA to Boalsburg, PA. All public comments received in response to this notice will be considered and potential revisions made to the information presented herein as appropriate. The environmental review of alternatives for the transportation project will be conducted in accordance with the requirements of the National Environmental Policy Act (NEPA) of 1969, as amended (42 U.S.C. 4321, et seq.), 23 U.S.C. 139, CEQ regulations implementing NEPA (40 CFR 1500-1508), FHWA regulations implementing NEPA (23 CFR 771.101-771.139) and all applicable Federal, State, and local governmental laws and regulations.

Background. Within the State College Area Connector project area, there have been many transportation improvement studies and projects that have influenced travel within and immediately adjacent to the study area dating back to the 1970s. However, in the 1990s, key regional studies occurred which greatly influenced travel and development within the study area. The following provides a high-level summary of the local and regional transportation projects which have provided influence on the State College Area Connector project area.

Interstate 80:

○ I-80 was completed in Pennsylvania in 1970.

○ I-80 through Pennsylvania influenced traffic patterns, particularly an increase in interstate truck traffic. This increase in traffic affected travel conditions within the project area.

○ Roadway safety and quality of life in Centre County communities traversed by these roadways were influenced by the I-80 completion.

Interstate 99:

○ US 220 study west of the State College area led to the development of a major improvement project for a new north-south interstate through Centre County that culminated with the construction of I-99 extending from Blair County to US 322 (the Mount Nittany Expressway).

○ PA 26 corridor study resulted in the construction of I-99 from US 322 (the Mount Nittany Expressway) north towards I-80.

○ I-80 Exit 161 (Bellefonte Interchange) is under development to replace the existing interchange with a new high-speed interchange and complete the I-99/I-80 connection. Construction of the interchange improvements will complete the goal for a major north-south interstate (I-99) through the center of the Commonwealth connecting two major east-west interstates, the Pennsylvania Turnpike (I-76) and I-80.

South Central Centre County Transportation Study (SCCCTS):

○ SCCCTS was initiated in 1998 to evaluate and address transportation needs along the US 322, PA 144, and PA 45 corridors. The SCCCTS project needs identified specific transportation problems in each of the three corridors and on the local road system, as well as needs associated with regional travel patterns. The regional travel pattern need statement addressed the high percentage of through trips (in particular the high volume of truck traffic), high crash rates (including fatalities), poor Level of Service (LOS) (including LOS associated with heavy truck traffic) and increases in travel demand associated with local and regional planned development. However, SCCCTS was terminated in 2004 due to funding shortfalls and the NOI rescinded on July 29, 2019.

Safety Improvements:

○ Following the termination of SCCCTS in 2004, short-term safety improvements along the US 322 were conducted between 2006 and 2015. These improvements included general intersection improvements (e.g., turn lanes), safety improvements (e.g., safety dot warning pavement markings, removal of passing zones), minor roadway realignments, and bridge reconstruction. These improvements were initiated to address some of the safety concerns identified during the SCCCTS study.

Potters Mills Gap (PMG) Transportation Project:

○ PennDOT and FHWA initiated the PMG Transportation Project to improve a 3.75-mile-long section of US 322 in Potter Township within the area locally known as “Potters Mills Gap”. This project area encompassed the southeastern portion of the SCCCTS study area. It was determined that this project had independent utility and addressed a defined purpose and need. The project included the construction of a new limited access four-lane roadway section that started at the Sand Mountain Road intersection and extended west, tying back into existing US 322 with a new interchange and roundabout, west of the PA 144/US 322 intersection.

SCCCTS Data Refresh:

○ In 2018, PennDOT collected data to update the traffic and environmental information from the former SCCCTS (2004), to identify changes to travel patterns, the transportation network, and environmental conditions. This information supported the 2019 decision by State officials to restart efforts to address regional transportation needs in the US 322, PA 44, and PA 45 area. Nearly, $15 million in State funding was allocated to advance the State College Area Connector Study.

State College Area Connector Planning and Environmental Linkages (PEL) Study:

○ In 2020, PennDOT, in cooperation with FHWA and coordination with the Centre County Metropolitan Planning Organization (MPO), initiated the State College Area Connector PEL Study. The PEL process promoted early coordination with the public as well as Federal, State, and local agencies in a transparent and collaborative environment that identified and evaluated transportation needs in the area, and developed and evaluated alternatives while considering community concerns in transportation decision-making early in the planning process. The PEL study identified a range of alternatives and screened them against the purpose and need and potential for environmental impacts. Three Build Alternatives corridors were recommended for further study. These three recommended Build Alternatives and a refined study area are being advanced for NEPA study with a Notice of Intent to prepare an EIS.

The following information provided in the NOI is supplemented with more detail in the NOI Additional Project Information document.

(a) Purpose and Need for the Proposed Action

The purpose of this project is to improve roadway congestion by achieving acceptable LOS and to address safety issues by reducing the predicted crash frequency along the US 322 corridor between Potters Mills and Boalsburg. Additionally, the project will aim to provide a transportation network that meets driver expectations.

The preliminary needs identified for the project are that high peak hour traffic volumes cause congestion and result in unacceptable LOS (LOS D [rural only], E, or F) on US 322 roadways and intersections; the existing roadway configurations and traffic conditions contribute to safety concerns in the project area; and the roadway network and configuration in the project area lacks continuity and does not meet driver expectations.

The project purpose and needs were first presented as part of the Pre-NOI/PEL phase of project development and were presented to the State and Federal resource agencies at an agency coordination meeting in July 2020 and to public officials and the general public at a virtual meeting in October 2020. Resource agencies and the public were invited to comment on the Purpose and Need. The purpose and need statements were refined following the PEL study for the US 322 project area. The project-specific purpose and needs were presented to the resource agencies in January 2024. The purpose and needs and supporting documentation, including data and public input summary, will be available in the Draft EIS. No specific comments were received from any of the resource agencies.

(b) A Preliminary Description of the Proposed Action and Alternatives the Environmental Impact Statement Will Consider

As concluded in the PEL Study, the proposed action is anticipated to include construction of an approximately 8-mile four-lane limited access facility from the end of US 322/Mount Nittany Expressway in Boalsburg to the newly constructed limited access portion of US 322 at Potters Mills in Centre County, Pennsylvania. Agencies and the public are invited to comment on the Range of Alternatives for the proposed action. Additional information on the Range of Alternatives is in the NOI Additional Project Information document. The Range of Alternatives proposed to be considered in the EIS include the following:

No Build Alternative

The No Build Alternative involves taking no action, except routine maintenance and other small projects currently listed in the Centre County Transportation Improvement Program (TIP). The existing two-lane alignment of US 322 between Potters Mills Gap and Boalsburg, Pennsylvania would remain. No new alignments or roadway improvements would be constructed.

Build Alternative—US 322-1S

The US 322-1S Build Alternative (US 322-1S) would have logical termini at the US 322 (Mt. Nittany Expressway) in Boalsburg and US 322 at Potters Mills Gap. US 322-1S would begin at the existing US 322 interchange with PA 45 near Boalsburg and follow existing US 322 to a point east of the Elks Club Road/Bear Meadows Road intersection. In this area, a two-lane service road would be provided on the north side of the limited access highway to provide connectivity to the local road network. US 322-1S would shift off existing US 322 to the north until it crosses south over US 322 near Neff Road in Tusseyville. The alternative would parallel US 322 to the south before connecting to the newly constructed US 322/PA 144 interchange at Potters Mills Gap. The Build Alternative US 322-1S would be 8.3 miles long.

Build Alternative—US 322-1OEX

The US 322-1OEX Build Alternative (US 322-1OEX) is a hybrid of US 322-1S that attempts to maximize the use of the existing US 322 right-of-way. US 322-1OEX would have logical termini at the US 322 (Mt. Nittany Expressway) in Boalsburg and US 322 at Potters Mills Gap. US 322-1OEX would begin at the existing US 322 interchange with PA 45 near Boalsburg and follow existing US 322 to a point east of the Elks Club Road/Bear Meadows Road intersection. In this area, a two-lane service road would be provided on the north side of the limited access highway to provide connectivity to the local road network. US 322-1OEX would shift off existing US 322 to the north until it crosses back to US 322 near Neff Road in Tusseyville. From there it would follow existing US 322 to the newly constructed US 322/PA 144 interchange at Potters Mills Gap, with the inclusion of a two-lane service road to maintain local access for properties adjacent to the new limited access facility. US 322-1OEX would be 8.3 miles long.

Build Alternative—US 322-5

The US 322-5 Build Alternative (US 322-5) would have logical termini at the US 322 (Mt. Nittany Expressway) in Boalsburg and US 322 at Potters Mills Gap. US 322-5 would begin at the existing US 322 interchange with PA 45 near Boalsburg and follow existing US 322 to a point east of the Elks Club Road/Bear Meadows Road intersection. A two-lane service road on the north side of the limited access highway would connect to the local road network. US 322-5 would turn southeast off the existing US 322 corridor near Tait Road, and proceed east along the lower slope of Tussey Mountain, paralleling US 322. The corridor would continue paralleling US 322 to the south, crossing over Church Hill Road, Dogtown Road, and Mountain Back Road and connect to the newly constructed US 322/PA 144 interchange at Potters Mills Gap. US 322-5 would be 8.4 miles long.

(c) Brief Summary of Expected Impacts

As part of the PEL process, PennDOT conducted scoping activities for the State College Area Connector Project. Resource data was collected from publicly available web based existing maps and data; direct coordination with various Federal, State, and local government agencies; select site reconnaissance; coordination with private organizations; and public input. This information was used to identify the types of environmental, cultural, and socioeconomic resources present and those likely to be affected. The following resources will be evaluated in the EIS and supporting technical studies: cultural resources (archaeology and historic architecture); hazardous materials; air quality; greenhouse gases and climate change; noise-sensitive areas; natural resources (wildlife and habitat; threatened, endangered, and special concern species; waters of the US; water quality; groundwater; floodplains; and farmlands), visual resources; section 4(f) resources (public recreational facilities, historic properties, and State Game Lands); and socioeconomic resources (communities and community facilities, population and housing, economic resources, land use and right-of-way, and environmental justice). Potential direct, indirect, and cumulative effects will be assessed and documented in the EIS. Preliminary review of the existing conditions with or adjacent to the Build Alternative corridors for the project could result in effects to the following:

• Environmental Justice: Minority and/or low-income (environmental justice) populations have been identified within the vicinity of the Project, specifically within Harris Township. An assessment of the potential for disproportionate and adverse effects on environmental justice populations will be conducted, as described in section 4 of the NOI Additional Project Information document.

• Regional and local economies: Within the vicinity of the Project, there are industrial and commercial centers, and agricultural farm businesses. Industrial and commercial centers are clustered along existing US 322 in portions of Potter Township and Harris Township. Agricultural farm businesses are concentrated in the center and eastern portion of the project area. An assessment of the Project's potential effects on regional and local economies will be conducted,

• Wetland and surface waters: State and Federal regulated freshwater wetlands and waterways are present in the vicinity of the Project, including but not limited to Sinking Creek, Spring Creek, Boal Gap Run, Sleepy Creek, Galbraith Gap Run, and associated tributaries. A surface water and wetland delineation will be conducted to identify all State-regulated wetlands and Waters of the U.S. within and adjacent to the Build Alternative corridors. An assessment of the Project's potential effects on wetlands and surface waters will be conducted,

• Threatened and endangered species: Federally and State-listed threatened and/or endangered species have the potential to occur within the vicinity of the Project. A Pennsylvania Natural Diversity Inventory (PNDI) search was completed to determine potential threatened and endangered species resources within or adjacent to the Build Alternative corridors. The following species were identified in the search:

○ Plant State Species Only

Serviceberry (proposed endangered)

Long-fruited anemone (endangered)

Tall gramma (endangered)

Roundleaf services (proposed endangered)

Brome grass (proposed threatened)

Bebb's sedge (endangered/proposed threatened)

Hansom sedge (endangered)

Prairie sedge (threatened)

Heller's witchgrass (proposed threatened)

Vetchling (proposed endangered)

Grooved yellow flax (endangered)

False gromwell (endangered)

Hard-leafed goldenrod (proposed endangered)

Mountain starwort (proposed threatened)

Tufted buttercup (endangered)

Northeastern bulrush (endangered/proposed threatened)

Declined trillium (proposed threatened)

○ Mammal Species

Indiana Bat (Federal endangered)

Northern Long-eared Bat (Federal endangered)

Tri-colored Bat (Federal proposed endangered)

Eastern Small-footed Bat (State threatened)

○ Reptile Species

Timber rattlesnake (State protected species)

○ Aquatic Species

Triangle floater (State protected species)

Coordination with the resource agencies also noted concerns for migratory bird species and bat hibernacula in the area. An assessment of the Project's potential effects on threatened and endangered species will be conducted and coordination with the resource agencies conducted, accordingly.

• Farmland: Productive agricultural land and farmland soils pursuant to the Farmland Protection Policy Act are present in the vicinity of the Project. Agricultural evaluations will be conducted including secondary source data collection and farmer interviews. An assessment of the Project's potential effects on productive agricultural land and farmland soils will be conducted.

• Historic properties: A reconnaissance survey was conducted for resources within or adjacent to the Build Alternative corridors. The survey included a review of the Pennsylvania Historic and Museum Commission's files of resources identified as listed in or eligible for listing in the National Register of Historic Places (NRHP), and limited field investigation to identify properties potentially eligible for inclusion in the NRHP. An Area of Potential Effects (APE) will be established for the Project and an assessment will be conducted to identify the potential effects on historic properties. Coordination with the State Historic Preservation Office and interested parties will be included as part of the effect's findings.

• Visual resources: Visually sensitive resources are present in the vicinity of the Project, including but not limited to historic properties including the Penns Valley/Brush Valley Rural Historic District, and Rothrock State Forest. An assessment of the Project's potential effects on visual resources will be conducted.

• Air quality: The project lies in Centre County, Pennsylvania which is currently designated as a maintenance area under the 1997 8-hour ozone NAAQS. Centre County is in attainment for all other criteria pollutants for which NAAQS are established. An assessment of the Project's potential effects on air quality will be conducted.

• Traffic noise: Noise sensitive receptors, as described in 23 CFR part 772, are present within the vicinity of the Project and include, but are not limited to residences and trails. An assessment of the Project's potential effects on traffic noise will be conducted.

• Construction effects: Construction of the Project has the potential to affect noise, air quality, traffic and transportation, local and regional economies, water quality, and other environmental resources. Construction effects would be temporary and would cease with the completion of construction. An assessment of the Project's potential construction-related effects will be conducted.

The analyses and evaluations conducted for the EIS will identify the potential for construction-related (short-term) and operational (long-term) effects (direct, indirect, and cumulative); whether the anticipated effects would be adverse; and mitigation measures for adverse effects. Evaluations under section 4(f) of the USDOT Act of 1966, 23 CFR part 774, and section 6(f) of the Land and Water Conservation Fund Act of 1965, 54 U.S.C. 200302, will be prepared, and consultation under section 106 of the National Historic Preservation Act of 1966, 54 U.S.C. 300101-307108, will be undertaken concurrently with the NEPA process. Additional information on the expected impacts is provided in the NOI Additional Project Information document available for review in the docket established for this project and on the project website as noted in the ADDRESSES section. Comments on the expected effects to be analyzed in the Draft EIS (DEIS) are welcomed during the NOI comment period. The identification of environmental effects for analysis in the DEIS may be revised due to the consideration of public comments.

(d) Anticipated Permits, Other Authorizations, and Cooperating and Participating Agencies

A Clean Water Act Section 404 permit decision from the U.S. Army Corps of Engineers (USACE) is anticipated in September 2026. Other anticipated State authorizations include a Pennsylvania Department of Environmental Protection (PADEP) Section 401 Water Quality Certification/Chapter 105 Standard Permit in August 2026. Section 7 consultation under the Endangered Species Act is expected to be concluded in September 2025, and Section 106 consultation under the National Historic Preservation Act is anticipated to be concluded in December 2024. A U.S. Department of Transportation Act of 1966, Individual Section 4(f) authorization is anticipated in April 2026. See the NOI Additional Project Information document for more detail on the anticipated permits and other authorizations. Cooperating Agencies include the USACE, U.S. Fish and Wildlife Service, Environmental Protection Agency, Pennsylvania State Historic Preservation Office, and PADEP. Participating Agencies include the PA Fish and Boat Commission, PA Department of Conservation and Natural Resources, PA Game Commission, PA Department of Agriculture, Centre County Conservation District, Centre County Board of Commissioners, Harris Township Board of Supervisors, College Township Council, Seneca Nation of Indians, and Delaware Tribe of Indians.

(e) Scoping and Public Review

Agency Scoping

PennDOT has conducted agency coordination to inform the purpose and need and preliminary project alternatives, scoping meeting, and other elements outlined in this document. An Agency Coordination Plan was reviewed and agreed to by the Pennsylvania resource agencies, including the Cooperating and Participating agencies. It is a living document that will be updated through the EIS process. The resource agency meetings in Pennsylvania are referred to as Agency Coordination Meetings (ACM). Since PennDOT is the lead agency for this project, the agency meetings are typically held on the ACM's regularly scheduled meeting dates. A total of 12 agency coordination meetings were held between February 2020 and January 2024.

Public Review

PennDOT conducted public outreach activities during the PEL Study for the State College Area Connector to present information and collect public input. The PEL Study had a Public and Agency Coordination Plan which provided the foundation for the outreach activities.

Additionally, PennDOT conducted four public open house meetings. These meetings solicited public comment on the presented information which included:

• Virtual Open House Meeting—October 2020

○ overview of the transportation development process

○ PEL Study process

○ environmental resources

○ engineering and traffic data

○ purpose and need.

• Open House Public Meeting—September 21 and 22, 2021

○ PEL Study process

○ range of alternative concepts

○ Upgrade Existing and Build Alternative corridor concepts

○ alternative screening process

○ preliminary environmental and traffic analysis.

• Open House Public Meeting—April 5 and 6, 2022

○ environmental data collection efforts

○ traffic analyses

○ Upgrade Existing and Build Alternative corridor refinements

○ key resource and alternative changes since September 2021 meetings.

• Open House Public Meeting—October 19 and 20, 2022

○ PEL Study Report draft recommendations for alternatives to move forward

○ potential environmental and traffic impacts/benefits.

In addition, public official kick-off meetings were held in August, September, and November 2020 (Harris Township/August 10, Centre Hall Borough/August 13, Potter Township/August 17, College Township/August 20, Benner Township/September 3, Spring Township/September 8, Centre County/November 24, 2020). These meetings introduced the data presented in the Virtual Open House Meeting.

Combined public official meetings were also held:

• August 31, 2021, in advance of the September 2021 open house meeting.

• March 30, 2022, in advance of the of the April 2022 open house meeting.

• September 7, 2022, in advance of the October 2022 open house meetings.

The public and agency scoping process is continuing with the publication of this NOI. PennDOT will maintain and update the project website, as identified in the ADDRESSES section of this notice, to direct the public to the Final State College Area Connector Planning and Environmental Linkages Report and associated scoping documents and solicit public input. Additionally, PennDOT will continue to conduct targeted outreach to communities in and around the project area. A 30-day public comment period is being held in association with the publication of the NOI in the Federal Register. There will be at least three more public involvement opportunities for the State College Area Connector Project. During project Scoping, there will be two public open house meetings. The first Scoping public open house meeting will occur after the NOI is issued and will present detailed traffic analysis, updated environmental features, and preliminary engineering alignment alternatives. The second Scoping public open house meeting will be held following alternative refinement and identification of a draft recommended preferred alternative. This public open house meeting will also present the revised preliminary alignment alternatives, associated potential environmental effects, and conceptual mitigation. Lastly, following the issuance of the Notice of Availability of the Draft EIS, a public hearing with an option for multiple nights, if necessary, will be held. Refer to the Coordination Plan for Public Involvement for more information.

(f) Schedule for the Decision-Making Process

Following the issuance of this notice, FHWA and PennDOT will coordinate with the Participating and Cooperating Agencies to develop study documentation and the Draft EIS.

• The Draft EIS is anticipated to be issued in July 2025.

• The combined Final EIS/Record of Decision is anticipated in July 2026.

• A section 404 permit decision from the USACE is expected in September 2026.

See the NOI Additional Project Information document for schedule details.

(g) Request for Identification of Potential Alternatives, Information, and Analyses Relevant to the Proposed Action

To ensure that a full range of issues related to the project are addressed and all potential issues are identified, FHWA invites comments and suggestions from all interested parties. The project team requests comments and suggestions on purpose and needs, potential alternatives and impacts, and the identification of any relevant information, studies, or analyses of any kind concerning impacts affecting the quality of the human environment. Any information presented herein, including the project-specific purpose and need, preliminary range of alternatives and identification of impacts may be revised after consideration of the comments. The purpose of this request is to bring relevant comments, information, and analyses to the agency's attention, as early in the process as possible, to enable the agency to make maximum use of this information in decision making. Comments may be submitted according to the instructions in the ADDRESSES section of this notice.

(h) Contact Information

FHWA: Julia Moore, Senior Environmental Specialist, Federal Highway Administration, Pennsylvania Division, 30 North Third Street, Suite 700, Harrisburg, PA 17101; email Julia.Moore@dot.gov; 717-221-4585.

Pennsylvania Department of Transportation: Eric Murnyack, PE, Project Manager, 70 PennDOT Drive, Clearfield, PA 16830; email emurnyack@pa.gov; 814-765-0435.

Jennifer Maureen Crobak,
Director of Planning, Environment, Finance, Federal Highway Administration.

[FR Doc. 2024-16257 Filed 7-23-24; 8:45 am]

BILLING CODE 4910-22-P